DEPARTMENT OF EDUCATION

National Institute on Disability and Rehabilitation Research (NIDRR)—Disability and Rehabilitation Research Projects and Centers Program—Rehabilitation Research and Training Centers (RRTCs)—Enhancing the Health and Wellness of Individuals With Arthritis (CFDA 84.133B-9); Correction

AGENCY: Department of Education.

ACTION: Notice inviting applications for new awards for fiscal year (FY) 2009; correction.

SUMMARY: On July 21, 2009, we published in the Federal Register (74 FR 35851) a notice inviting applications for new awards for FY 2009 under Disability and Rehabilitation Research Projects and Centers Program—Rehabilitation Research and Training Centers (RRTCs)—Enhancing the Health and Wellness of Individuals With Arthritis (CFDA 84.133B-9).

This document corrects errors in the July 21, 2009 notice.

On page 35851, in the second column, correct the date in the “Date of Pre-Application Meeting” caption to read “August 6, 2009”.

On page 35852, in the second column, correct the date in the “Date of Pre-Application Meeting” caption to read “August 6, 2009”.

On page 35851, in the second column, correct the date in the “Deadline for Transmittal of Applications” caption to read “August 20, 2009”.

On page 35852, in the second column, correct the date in the “Deadline for Transmittal of Applications” caption to read “August 20, 2009”.

On page 35851, in the third column, correct the amount in the “Estimated Available Funds” caption to read “$800,000”.

On page 35851, in the third column, correct the amount in the “Maximum Award” caption to read “$800,000”.

FOR FURTHER INFORMATION CONTACT: Donna Nangle, U.S. Department of Education, 400 Maryland Avenue, SW., room 6029, PCP, Washington, DC 20202. Telephone: (202) 245-7462 or by e-mail: Donna.Nangle@ed.gov.

If you use a telecommunications device for the deaf (TDD), call the Federal Relay Service (FRS), toll free, at 1-800-877-8339.

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services, to perform the functions of the Assistant Secretary for Special Education and Rehabilitative Services.

Dated: July 23, 2009.
Andrew J. Pepin,
Executive Administrator for Special Education and Rehabilitative Services.

[FR Doc. E9-17962 Filed 7-27-09; 8:45 am]

BILLING CODE 4000-01-P